DEPARTMENT OF STATE

[Public Notice: 10351]

Waiver of Missile Proliferation Sanctions Against Foreign Persons

AGENCY: Department of State.

ACTION: Notice.

SUMMARY: A determination has been made pursuant to the Arms Export Control Act and Export Administration Act (as carried out under Executive Order 13222 of August 17, 2001).

SUPPLEMENTARY INFORMATION: Consistent with section 654(c) of the Foreign Assistance Act of 1961, as amended, notice is hereby given that the Secretary of State has made a determination pursuant to Section 73 of the Arms Export Control Act (22 U.S.C. 2797b) and Section 11B(b) of the Export Administration Act of 1979 (50 U.S.C. app. 2410b(b)), as carried out under Executive Order 13222 of August 17, 2001, and has concluded that publication of the determination would be harmful to the national security of the United States.

Christopher A. Ford,
Assistant Secretary of State for International Security and Nonproliferation.

[FR Doc. 2018-04929 Filed 3-9-18; 8:45 am]

BILLING CODE 4710-27-P